DEPARTMENT OF THE INTERIOR

Bureau of Land Management

[LLNM922000.L51100000. GA0000. LVEMG15CG420]

Notice of Availability of the Environmental Assessment for Evans McCurtain Federal Coal Lease-by-Application OKNM127509, Haskell and LeFlore Counties, OK, Notice of Public Hearing, and Request for Comment on Environmental Assessment, Maximum Economic Recovery, and Fair Market Value

AGENCY: Bureau of Land Management, Interior.

ACTION: Notice of availability.

SUMMARY: The Bureau of Land Management (BLM), Oklahoma Field Office (Field Office) is publishing this Notice to announce that an environmental assessment (EA) for Evans Coal Company Federal coal Lease-by-Application (LBA), serial number OKNM-127509, is available for public review and comment. The BLM is also announcing that it will hold a public hearing to receive comments on the EA, proposed sale, fair market value (FMV), and maximum economic recovery (MER) of the coal resources contained in the proposed LBA tract.

DATES: The public hearing will be held on January 7, 2019 from 5:00 p.m. to 7:00 p.m. Written comments should be received no later than January 11, 2019.

ADDRESSES: The public hearing will be held at McCurtain City Hall, 308 Main Street, McCurtain, OK 74944. Comments related to the Evans McCurtain LBA EA, FMV, and MER may be submitted through either of the following methods:

• Electronic submissions may be uploaded in ePlanning. A link to the Evans-McCurtain LBA-OKNM-127509 ePlanning site is at: https://www.blm.gov/programs/energy-and-minerals/new-mexico/coal.

• Hardcopy submissions may be mailed to April Crawley, BLM Oklahoma Field Office, 201 Stephenson Pkwy, Ste. 1200, Norman, OK 73072

Comments submitted by the public related to the Evans McCurtain LBA EA, FMV, and MER for the tract, will be made available for public inspection at the Field Office address listed above.

FOR FURTHER CONTACT INFORMATION: April Crawley, BLM Natural Resource Specialist, BLM Oklahoma Field Office, 201 Stephenson Parkway, Norman, OK 73072; acrawley@blm.gov; 405-579-7171. Persons who use a telecommunications device for the deaf (TDD) may call the Federal Relay Service (FRS) at 1-800-877-8339 to contact the above individual during normal business hours. The FRS is available 24 hours a day, 7 days a week, to leave a message or question with the above individuals. You will receive a reply during normal business hours.

SUPPLEMENTARY INFORMATION: Evans Coal Company (Evans) filed an LBA for Federal segregated coal reserves underlying 1,270 acres of private surface acres in Haskell and LeFlore counties, Oklahoma. Coal reserves within the tract are recoverable by underground mining methods only. The BLM's EA analyzes and discloses the potential direct, indirect, and cumulative impacts of leasing and subsequent mining of the proposed LBA tract. The tract contains an estimated 3.28 tons of recoverable coal. The applicant plans on entering underground mining operations on land previously surface mined and owned by Evans.

Indian Meridian, Oklahoma (OK)

T. 8 N., R. 22 E., Indian Meridian, Haskell County, Oklahoma

sec. 11, E½NW¼, E½SW¼, E½;

sec. 12, N½, N½SW¼, N½SE¼, and a tract commencing at the southwest corner of section 12, T. 8 N., R. 22 E., thence a distance of 111.61 feet N 0°1′ W, along the west line of said section 12 to the point of beginning, thence easterly a distance of 5,326.57 feet N 80°45′30″ E, to a point on the east line of said section 12, thence north a distance of 397.42 feet north along the east line of said section 12 to the southeast corner of the NE¼SE¼ of said section 12, thence west a distance of 5,280 feet to the west line of said section 12, thence a distance of 1,208.39 feet S 0°1′ E, along the west line of said section to the point of beginning.

sec. 14, a tract of land commencing at the northeast corner of section 14, T. 8 N., R. 22 E., thence a distance of 682.72 feet S 89°40′ W, along the north line of said section 14 to the point of beginning, thence a distance of 1,946.72 feet S 89°40′ W, along the north line of said section 14 to the north quarter corner, thence a distance of 794.04 feet S 0°1′8″ W, along the west line of the NE quarter of said section 14, thence a distance of 2,106.95 feet N 67°31′38″ E, to the point of beginning.

T. 8 N., R. 23 E., Indian Meridian, LeFlore County, Oklahoma

sec. 7, lots 2 to 4, inclusive, SE¼NW¼, NE¼SW¼, N½SE¼SW¼;

Containing 1,270.85 acres, more or less.

The three alternatives listed in the EA are generally described below:

• Alternative A: (No Action): The application would be rejected or denied. A competitive lease sale would not be held at this time;

• Alternative B: (Proposed Action): The tracts would be leased as requested in the application, subject to standard and special lease stipulations developed for the tract; or

• Alternative C: (Reduced Acreage Action): The tract would be reduced to 940 acres, subject to standard and special lease stipulations developed for the tract.

If you submit proprietary data marked as confidential to the BLM in response to this solicitation of public comments, the BLM will treat the data so marked in accordance with the laws and regulations governing the confidentiality of such information, including the Freedom of Information Act. A copy of the comments submitted by the public on the EA, FMV, and MER, except those portions identified as proprietary by the author and meeting exemptions stated in the Freedom of Information Act, will be available for public inspection at the address listed in the ADDRESSES section of this notice during regular business hours from 8 a.m. to 4:30 p.m. Monday through Friday, excluding Federal holidays.

Public comments on the LBA EA should address the potential environmental impacts of the proposed action. Public comments on the FMV and MER for the proposed lease tract may address, but do not have to be limited to, the following:

1. The quality and quantity of the Federal coal reserves;

2. The method of mining to be employed to obtain the MER of the coal, including: Specifications of the seams to be mined; timing and rate of production; restrictions to mining; and the inclusions of tracts in an existing mining operation;

3. The price that the mined coal would bring when sold;

4. Costs, including mining and reclamation costs, of producing the coal and the anticipated timing of production;

5. The percentage rate at which anticipated income streams should be discounted, either with inflation, or in the absence of inflation, in which case the anticipated rate of inflation should be given;

6. Depreciation, depletion, amortization, and other tax accounting factors; and

7. The value of any privately held mineral or surface estate in the McCurtain area.

The values given above may or may not change because of comments received from the public and changes in market conditions between now and when final economic evaluations are completed.

Please send written comments on the LBA EA, MER, and FMV to April Crawley at the address listed in the ADDRESSES section in the notice or through ePlanning, as described above, prior to close of business January 11, 2019. Substantive comments, whether written or oral, will receive equal consideration prior to any lease offering.

Before including your address, phone number, email address, or other personal identifying information in your comment, you should be aware that your entire comment—including your personal identifying information—may be made publicly available at any time. While you can ask us in your comment to withhold personal identifying information from public review, we cannot guarantee that we will be able to do so.

Authority: 43 CFR 3422, 43 CFR 3425, 43 CFR 3427.

Timothy R. Spisak,
Acting BLM New Mexico State Director.

[FR Doc. 2018-27175 Filed 12-26-18; 8:45 am]

BILLING CODE 4310-FB-P